UNITED STATES INSTITUTE OF PEACE

Announcement of the Fall 2003 Solicited Grant Competition Grant Program

AGENCY: United States Institute of Peace.

ACTION: Notice.

SUMMARY: The Agency Announces its Upcoming Fall 2003 Solicited Grant Competition. The Solicited Grant competition is restricted to projects that fit specific themes and topics identified in advance by the Institute of Peace.

The themes and topics for the Fall 2003 Solicited competition are:

• Solicitation A: Responding to Terrorism.

• Solicitation B: New Approaches to the Arab-Israeli Conflict.

Deadline: October 1, 2003. Application Material Available on Request.

DATES: Receipt of Application: October 1, 2003.

Notification Date: March 31, 2004.

ADDRESSES: For more information and an application package: United States Institute of Peace, Grant Program Solicited Grants, 1200 17th Street, NW., Suite 200, Washington, DC 20036-3011, (202) 429-3842 (phone), (202) 429-6063 (fax), (202) 457-1719 (TTY), E-mail: grants@usip.org.

Application material available on-line: http://www.usip.org/grants.

FOR FURTHER INFORMATION CONTACT: The Grant Program, Phone (202) 429-3842.

Dated: July 8, 2003.
Bernice J. Carney,
Director Office of Administration.

[FR Doc. 03-17672 Filed 7-11-03; 8:45 am]

BILLING CODE 6820-AR-M